LEGAL SERVICES CORPORATION

Sunshine Act Meeting of the Operations & Regulations Committee of the LSC Board of Directors

Time and Date: The Legal Services Corporation (“LSC” or “Corporation”) Board of Directors (“Board”) Operations & Regulations Committee (“Committee”) will meet telephonically on September 16, 2011 at 1 p.m., Eastern Time.

Location: Legal Services Corporation, F. William McCalpin Conference Center, 3333 K Street, NW., Washington, DC, 20007.

Status of Meeting: Open.

Public Observation: Members of the public who wish to listen to the proceedings may do so by following the telephone call-in directions given below, but are asked to keep their telephones muted to eliminate background noises. From time to time the Chairman may solicit comments from the public.

Call-In Directions for Open Session(s)

♢ Call toll-free number: 1-(866) 451-4981;

♢ When prompted, enter the following numeric pass code: 5907707348;

♢ When connected to the call, please “MUTE” your telephone immediately.

MATTERS TO BE CONSIDERED:

Operations & Regulations Committee

Agenda

Open Session

1. Approval of agenda.

2. Consider public comments received in response to the solicitation published in the Federal Register at 76 FR 48,904 (Aug. 9, 2011) regarding management's recommendation to propose to the White House and Congress statutory changes concerning replacement of decennial census poverty data in the statutory formula for per capita distribution of basic field funds because the 2010 census did not collect poverty data, phasing in the first redistribution over two years, and redistributing funds triennially thereafter.

3. Consider Management's final recommendation, in light of those comments, and adopt a recommendation to make to the Board on the issue.

4. Other Business.

5. Consider and act on adjournment of meeting.

CONTACT PERSON FOR INFORMATION: Katherine Ward, Executive Assistant to the Vice President & General Counsel, at (202) 295-1500. Questions may be sent by electronic mail to FR_NOTICE_QUESTIONS@lsc.gov.

Accessibility: LSC complies with the American's with Disabilities Act and Section 504 of the 1973 Rehabilitation Act. Upon request, meeting notices and materials will be made available in alternative formats to accommodate individuals with disabilities. Individuals that need other accommodations due to disability in order to attend the meeting in person or telephonically should contact Katherine Ward at (202) 295-1500 or FR_NOTICE_QUESTIONS@lsc.gov, at least 2 business days in advance of the meeting. If a request is made without advance notice, LSC will make every effort to accommodate the request but cannot guarantee that all requests can be fulfilled.

Dated: September 8, 2011.
Victor M. Fortuno,
Vice President & General Counsel.

[FR Doc. 2011-23520 Filed 9-9-11; 4:15 pm]

BILLING CODE 7050-01-P